DEPARTMENT OF TRANSPORTATION

Federal Aviation Administration

14 CFR Part 39

[Docket No. FAA-2008-0556; Directorate Identifier 2007-NM-028-AD]

RIN 2120-AA64

Airworthiness Directives; Various Aircraft Equipped With Honeywell Primus II RNZ-850( )/-851(-) Integrated Navigation Units

AGENCY: Federal Aviation Administration (FAA), Department of Transportation (DOT).

ACTION: Notice of proposed rulemaking (NPRM).

SUMMARY: The FAA proposes to supersede an existing airworthiness directive (AD) that applies to various aircraft equipped with certain Honeywell Primus II RNZ-850( )/-851( ) integrated navigation units (INUs). The existing AD, as one alternative for compliance, provides for a one-time inspection to determine whether a certain modification has been installed on the Honeywell Primus II NV-850 navigation receiver module (NRM), which is part of the INU. In lieu of accomplishing this inspection, and for aircraft found to have an affected NRM, that AD provides for revising the aircraft flight manual to include new limitations for instrument landing system approaches. That AD also requires an inspection to determine whether certain other modifications have been done on the NRM; and doing related investigative, corrective, and other specified actions, as applicable; as well as further modifications to address additional anomalies. This proposed AD would extend the compliance time for a certain inspection and associated actions. This proposed AD would also revise the applicability to include additional affected INUs. This proposed AD results from reports indicating that erroneous localizer and glideslope indications have occurred on certain aircraft equipped with the subject INUs. We are proposing this AD to ensure that the flight crew has accurate localizer and glideslope deviation indications. An erroneous localizer or glideslope deviation indication could lead to the aircraft making an approach off the localizer, which could result in impact with an obstacle or terrain.

DATES: We must receive comments on this proposed AD by July 3, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact https://pubs.cas.honeywell.com or contact Honeywell International, Inc., Commercial Electronic Systems, 21111 North 19th Avenue, Phoenix, Arizona 85027-2708.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: J. Kirk Baker, Aerospace Engineer, Systems and Equipment Branch, ANM-130L, FAA, Los Angeles Aircraft Certification Office, 3960 Paramount Boulevard, Lakewood, California 90712-4137; telephone (562) 627-5345; fax (562) 627-5210.

SUPPLEMENTARY INFORMATION:

Comments Invited

We invite you to send any written relevant data, views, or arguments about this proposed AD. Send your comments to an address listed under the ADDRESSES section. Include “Docket No. FAA-2008-0556; Directorate Identifier 2007-NM-028-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On October 13, 2006, we issued AD 2006-22-05, amendment 39-14802 (71 FR 62907, October 27, 2006), for various aircraft equipped with certain Honeywell Primus II RNZ-850( )/-851( ) integrated navigation units (INUs). That AD, as one alternative for compliance, provides for a one-time inspection to determine whether a certain modification has been installed on the Honeywell Primus II NV-850 navigation receiver module (NRM), which is part of the INU. In lieu of accomplishing this inspection, and for aircraft found to have an affected NRM, that AD provides for revising the aircraft flight manual to include new limitations for instrument landing system approaches. That AD also requires an inspection to determine whether certain other modifications have been done on the NRM; and doing related investigative, corrective, and other specified actions, as applicable; as well as further modifications to address additional anomalies. That AD resulted from reports indicating that erroneous glideslope indications have occurred on certain aircraft equipped with the subject INUs. We issued that AD to ensure that the flightcrew has an accurate glideslope deviation indication. An erroneous glideslope deviation indication could lead to the aircraft making an approach off the glideslope, which could result in impact with an obstacle or terrain.

Actions Since Existing AD Was Issued

Since we issued AD 2006-22-05, we have become aware of the need to change three aspects of the existing AD:

1. Additional INU part numbers need to be added to the applicability.

2. Paragraph (j) of the existing AD requires related investigative, corrective, and other specified actions for certain NRMs before further flight. Our intention was to allow the full compliance time for both the inspection for the discrepant NRMs and the other associated actions for those NRMs.

3. We have determined that the existing AD's compliance time for the inspection and other associated actions (paragraph (j) in the NPRM) may be extended to 30 months and still provide an adequate level of safety for the fleet.

FAA's Determination and Requirements of the Proposed AD

We have evaluated all pertinent information and identified an unsafe condition that is likely to develop on other products of the same type design. For this reason, we are proposing this AD, which would supersede AD 2006-22-05 and retain its requirements, with revised compliance times for a certain inspection and other associated actions. This proposed AD would also revise the applicability to include additional affected INUs.

Additional Changes to Existing AD

Where paragraph (i) of the existing AD incorrectly refers to paragraph (k), the proper reference should be to paragraph (j). We have revised this proposed AD accordingly.

We also clarified the unsafe condition by also referring to the localizer (in addition to the glideslope).

Costs of Compliance

There are about 3,063 aircraft of the affected design in the worldwide fleet. The following table provides the estimated costs for U.S. operators to comply with this proposed AD. The manufacturer states that it will supply required parts to existing customers at no cost.

Estimated Costs
Action | Work hours | Average labor rate per hour | Parts | Cost per aircraft | Number of U.S.- registered aircraft | Fleet cost
Inspection for NRM modification level | 1 | $80 | $0 | $80 | Up to 1,500 | Up to $120,000.
AFM revision | 1 | 80 | 0 | 80 | Up to 1,500 | Up to $120,000.
Modification (to Mod T configuration) | 1 | 80 | 0 | 80 | Up to 1,500 | Up to $120,000.

The cost impact figures discussed above are based on assumptions that no operator has yet accomplished any of the proposed actions specified in this NPRM, and that no operator would accomplish those actions in the future if this AD were not adopted. We have been advised, however, that the actions have already been done on some affected airplanes. Therefore, the future economic cost impact of this rule on U.S. operators is expected to be less than the cost impact figures indicated above.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14802 (71 FR 62907, October 27, 2006) and adding the following new airworthiness directive (AD):

Various Aircraft: Docket No. FAA-2008-0556; Directorate Identifier 2007-NM-028-AD.

Comments Due Date

(a) The FAA must receive comments on this AD action by July 3, 2008.

Affected ADs

(b) This AD supersedes AD 2006-22-05.

Applicability

(c) This AD applies to various aircraft, certificated in any category, equipped with any Honeywell Primus II RNZ-850( )/-851( ) integrated navigation unit (INU) identified in a service bulletin identified in Table 1 of this AD. The aircraft include but are not limited to BAE Systems (Operations) Limited (Jetstream) Model 4101 airplanes; Bombardier Model BD-700-1A10 series airplanes; Bombardier Model CL-215-6B11 (CL-415 variant) series airplanes; Cessna Model 560, 560XL, and 650 airplanes; Dassault Model Mystere-Falcon 50 series airplanes; AvCraft Dornier Model 328-100 and -300 series airplanes; Empresa Brasileira de Aeronautica S.A. (EMBRAER) Model EMB-135 airplanes and Model EMB-145, -145ER, -145MR, -145LR, -145XR, -145MP, and -145EP airplanes; Learjet Model 45 airplanes; Raytheon Model Hawker 800XP and Hawker 1000 airplanes; and Sikorsky Model S-76A, S-76B, and S-76C aircraft.

Table 1.—INUs Affected by This AD
INUs listed in Honeywell— | Revision— | Dated—
(1) Alert Service Bulletin 7510134-34-A0016 | 001 | March 4, 2003.
(2) Service Bulletin 7510134-34-0018 | Original | July 8, 2004.
(3) Alert Service Bulletin 7510100-34-A0034 | Original | February 28, 2003.
(4) Alert Service Bulletin 7510100-34-A0035 | Original | July 11, 2003.
(5) Service Bulletin 7510100-34-0037 | Original | July 8, 2004.

Note 1: This AD applies to Honeywell Primus II RNZ-850( )/-851( ) INUs installed on any aircraft, regardless of whether the aircraft has been otherwise modified, altered, or repaired in the area subject to the requirements of this AD. For aircraft that have been modified, altered, or repaired so that the performance of the requirements of this AD is affected, the owner/operator must request approval for an alternative method of compliance in accordance with paragraph (o) of this AD. The request should include an assessment of the effect of the modification, alteration, or repair on the unsafe condition addressed by this AD; and, if the unsafe condition has not been eliminated, the request should include specific proposed actions to address it.

Unsafe Condition

(d) This AD results from reports indicating that erroneous localizer and glideslope indications have occurred on certain aircraft equipped with the subject INUs. We are issuing this AD to ensure that the flight crew has accurate localizer and glideslope deviation indications. An erroneous localizer or glideslope deviation indication could lead to the aircraft making an approach off the localizer, which could result in impact with an obstacle or terrain.

Compliance

(e) You are responsible for having the actions required by this AD performed within the compliance times specified, unless the actions have already been done.

Restatement of Certain Requirements of AD 2006-22-05

Compliance Time for Action

(f) For any INU identified in Table 2 of this AD: Within 5 days after March 11, 2003 (the effective date of AD 2003-04-06, which was superseded by AD 2006-22-05), accomplish the requirements of either paragraph (g) or (h) of this AD. After December 1, 2006 (the effective date of AD 2006-22-05), only accomplishing the requirements of paragraph (g) of this AD is acceptable for compliance with this paragraph.

Table 2.—INUs Identified in AD 2006-22-05
P/N 7510100-811 through 7510100-814 inclusive.
P/N 7510100-831 through 7510100-834 inclusive.
P/N 7510100-901 through 7510100-904 inclusive.
P/N 7510100-911 through 7510100-914 inclusive.
P/N 7510100-921 through 7510100-924 inclusive.
P/N 7510100-931 through 7510100-934 inclusive.

Inspection to Determine Part Number

(g) For any INU identified in Table 2 of this AD: Perform a one-time general visual inspection of the modification plate for the Honeywell Primus II NV-850 Navigation Receiver Module (NRM); part number 7510134-811, -831, -901, or -931; which is part of the Honeywell Primus II RNZ-850( )/-851( ) INU; to determine if Mod L has been installed. The modification plate is located on the bottom of the Honeywell Primus II RNZ-850( )/-851( ) INU, is labeled NV-850, and contains the part number and serial number for the Honeywell Primus II NV-850 NRM. If Mod L is installed, the letter L will be blacked out. Honeywell Alert Service Bulletin 7510100-34-A0035, dated July 11, 2003, is an acceptable source of service information for the inspection required by this paragraph.

(1) If Mod L is installed, before further flight, do paragraph (h) or (j) of this AD. After December 1, 2006, only accomplishment of paragraph (j) is acceptable for compliance with this paragraph.

(2) If Mod L is not installed, no further action is required by this paragraph.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Aircraft Flight Manual (AFM) Revision

(h) For aircraft having an INU identified in Table 2 of this AD: Revise the Limitations section of the AFM to include the following statements (which may be accomplished by inserting a copy of the AD into the AFM):

“Flight Limitations

When crossing the Outer Marker on glideslope, the altitude must be verified with the value on the published procedure.

For aircraft with a single operating glideslope receiver, the approach may be flown using normal procedures no lower than Localizer Only Minimum Descent Altitude (MDA).

For aircraft with two operating glideslope receivers, the aircraft may be flown to the published minimums for the approach using normal procedures if both glideslope receivers are tuned to the approach and both crew members are monitoring the approach using independent data and displays.”

Parts Installation

(i) For aircraft having an INU identified in Table 2 of this AD: As of March 11, 2003, no person may install a Honeywell Primus II NV-850 NRM on which Mod L has been installed, on the Honeywell Primus II RNZ-850( )/-851( ) INU of any aircraft, unless paragraph (h) or (j) of this AD is accomplished. As of December 1, 2006, only accomplishment of paragraph (j) is acceptable for compliance with this paragraph.

Inspection to Determine Modification Level of NRM

(j) For any INU identified in Table 2 of this AD on which Mod L was found to be installed during the inspection required by paragraph (g) of this AD, or for aircraft on which paragraph (h) of this AD was accomplished: Within 30 months after December 1, 2006, do an inspection of the modification plate on the Honeywell Primus II NV-850 NRM; part number 7510134-811, -831, -901, or -931; which is part of the Honeywell Primus II RNZ-850( )/-851( ) INU; to determine if Mod L, N, P, R, or T is installed. The modification plate located on the bottom of the Honeywell Primus II RNZ-850( )/-851( ) INU is labeled NV-850, and contains the part number and serial number for the Honeywell Primus II NV-850 NRM. If Mod L, N, P, R, or T is installed, the corresponding letter on the modification plate will be blacked out. Honeywell Alert Service Bulletin 7510100-34-A0035, dated July 11, 2003, is an acceptable source of service information for this inspection. If Mod T is installed, no further action is required by this paragraph. If Mod L, N, P, or R is installed, within 30 months after December 1, 2006, do all applicable related investigative, corrective, and other specified actions, in accordance with the Accomplishment Instructions of Honeywell Alert Service Bulletin 7510100-34-A0035, dated July 11, 2003; and Honeywell Service Bulletin 7510100-34-0037, dated July 8, 2004; to ensure that the NRM is at the Mod T configuration. Once the actions in this paragraph are completed, the AFM revision required by paragraph (h) of this AD may be removed from the AFM.

(k) If the inspection specified in paragraph (j) of this AD is done within the compliance time specified in paragraph (f) of this AD, paragraph (g) of this AD does not need to be done.

New Requirements of This AD

Inspection to Determine Mod Level

(l) For any INU that is not identified in Table 2 of this AD: Within 30 months after the effective date of this AD, perform a one-time general visual inspection of the modification plate for the Honeywell Primus II NV-850 Navigation Receiver Module (NRM); part number 7510134-811, -831, -901, or -931; which is part of the Honeywell Primus II RNZ-850( )/-851( ) INU; to determine whether Mod L, N, P, R, or T is installed. The modification plate located on the bottom of the Honeywell Primus II RNZ-850( )/-851( ) INU is labeled NV-850, and contains the part number and serial number for the Honeywell Primus II NV-850 NRM. If Mod L, N, P, R, or T is installed, the corresponding letter on the modification plate will be blacked out. Honeywell Alert Service Bulletin 7510100-34-A0035, dated July 11, 2003, is an acceptable source of service information for this inspection.

(1) If Mod T is installed: No further action is required by this paragraph.

(2) If Mod L, N, P, or R is installed: Within 30 months after the effective date of this AD, do all applicable related investigative, corrective, and other specified actions, in accordance with the Accomplishment Instructions of Honeywell Alert Service Bulletin 7510100-34-A0035, dated July 11, 2003; and Honeywell Service Bulletin 7510100-34-0037, dated July 8, 2004; to ensure that the NRM is at the Mod T configuration.

Note 3: For more information on the inspection specified in paragraphs (g), (j), and (l) of this AD, refer to Honeywell Technical Newsletter A23-3850-001, Revision 1, dated January 21, 2003.

Parts Installation

(m) For aircraft that have an INU that is not identified in Table 2 of this AD: As of the effective date of this AD, no person may install a Honeywell Primus II NV-850 NRM on which Mod L has been installed on the Honeywell Primus II RNZ-850( )/-851( ) INU of any aircraft, unless paragraph (l) is accomplished.

No Report

(n) Where Honeywell Alert Service Bulletin 7510100-34-A0035, dated July 11, 2003 (or any of the related service information referenced therein), specifies to submit certain information to the manufacturer, this AD does not include that requirement.

Alternative Methods of Compliance (AMOCs)

(o)(1) The Manager, Los Angeles Aircraft Certification Office, FAA, has the authority to approve AMOCs for this AD, if requested in accordance with the procedures found in 14 CFR 39.19.

(2) To request a different method of compliance or a different compliance time for this AD, follow the procedures in 14 CFR 39.19. Before using any approved AMOC on any aircraft to which the AMOC applies, notify your appropriate principal inspector (PI) in the FAA Flight Standards District Office (FSDO), or lacking a PI, your local FSDO.

Issued in Renton, Washington, on May 10, 2008.
Michael J. Kaszycki,
Acting Manager, Transport Airplane Directorate, Aircraft Certification Service.

[FR Doc. E8-11104 Filed 5-16-08; 8:45 am]

BILLING CODE 4910-13-P